DEPARTMENT OF HEALTH AND HUMAN SERVICES

Health Resources and Service Administration

Meeting of the Advisory Committee on Interdisciplinary, Community-Based Linkages

AGENCY: Health Resources and Service Administration (HRSA), Department of Health and Human Services (HHS).

ACTION: Notice.

SUMMARY: In accordance with the Federal Advisory Committee Act, this notice announces that the Advisory Committee on Interdisciplinary, Community-Based Linkages (ACICBL) has scheduled public meetings for the 2019 calendar year. Information about the ACICBL, agendas, and materials for these meetings can be found on the ACICBL website at https://www.hrsa.gov/advisory-committees/interdisciplinary-community-linkages/index.html.

DATES: May 16, 2019, 8:30 a.m.-5:00 p.m. Eastern Time (ET) and May 17, 2019, 8:30 a.m.-2:00 p.m. ET; and August 14, 2019, 11:00 a.m.-4:00 p.m. ET.

ADDRESSES: The May 16 and May 17, 2019, in-person ACICBL two-day meeting will be held at 5600 Fishers Lane, Rockville, Maryland 20857, and the August 14, 2019, meeting will be held through Adobe Connect webinar. Instructions for joining the meetings either in person or remotely will be posted on the ACICBL website 30 business days before the date of the meeting. For meeting information updates, go to the ACICBL website meeting page at https://www.hrsa.gov/advisory-committees/interdisciplinary-community-linkages/meetings/index.html.

FOR FURTHER INFORMATION CONTACT: Joan Weiss, Ph.D., RN, CRNP, FAAN, Senior Advisor and Designated Federal Official (DFO), Division of Medicine and Dentistry, HRSA, 5600 Fishers Lane, Rockville, Maryland 20857; 301-443-0430; or BHWACICBL@hrsa.gov.

SUPPLEMENTARY INFORMATION: ACICBL provides advice and recommendations to the Secretary of HHS on policy, program development, and other matters of significance concerning activities under sections 750-760, Title VII, Part D of the Public Health Service (PHS) Act.

During the May 2019 and August 2019 meetings, ACICBL members will discuss the overarching topic of population health within the following contexts:

• Inclusion of population health at the nexus of primary health care delivery and public health;

• Use of population health as a method of identifying place based risks, root causes, and possible interventions to address the structural and social determinants of health; and

• Preparation of clinicians to serve as change agents promoting primary prevention by developing the knowledge and skills to address the health needs of populations as measured by a variety of health status indicators.

Agenda items are subject to change as priorities dictate. Refer to the ACICBL website for any updated information concerning the meetings. An agenda will be posted on the website at least 10 business days before the meetings. Members of the public will have the opportunity to provide comments. Public participants may submit written statements in advance of the scheduled meetings. Oral comments will be honored in the order they are requested and may be limited as time allows. Requests to submit a written statement or make oral comments to the ACICBL should be sent to Joan Weiss, DFO, using the contact information above at least five business days before the meeting dates.

Individuals who need special assistance or another reasonable accommodation should notify Dr. Weiss at the address and phone number listed above at least 10 business days before the meetings they wish to attend. Since all in-person meeting will occur in a federal government building, attendees must go through a security check to enter the building. Non-U.S. Citizen attendees must notify HRSA of their planned attendance at least 20 business days prior to the meeting in order to facilitate their entry into the building. All attendees are required to present government-issued identification prior to entry.

Amy P. McNulty,
Acting Director, Division of the Executive Secretariat.

[FR Doc. 2019-02928 Filed 2-20-19; 8:45 am]

BILLING CODE 4165-15-P